DEPARTMENT OF HEALTH AND HUMAN SERVICES

National Institutes of Health

National Heart, Lung, and Blood Institute Notice of Meeting

Pursuant to section 10(a) of the Federal Advisory Committee Act, as amended (5 U.S.C. App.), notice is hereby given of a meeting of the Sleep Disorders Research Advisory Board.

The meeting will be open to the public and conducted electronically. The public is encouraged to observe the meeting, and should request instructions from the Contact Person listed below in advance.

Name of Committee: Sleep Disorders Research Advisory Board.

Date: December 11, 2015.

Time: 1:00 p.m. to 3:00 p.m.

Agenda: To discuss plans for the proposed revision of the NIH Sleep Disorders Research Plan, and potential directions for inter-agency coordination activities.

Place: National Institutes of Health, 6701 Rockledge Drive, Bethesda, MD 20892 (Virtual Meeting).

Contact Person: Michael J. Twery, Ph.D., Director, National Center on Sleep Disorders Research, Division of Lung Diseases, National Heart, Lung, and Blood Institute, National Institutes of Health, 6701 Rockledge Drive, Suite 10038, Bethesda, MD 20892-7952, 301-435-0199, twerym@nhlbi.nih.gov.

Information is also available on the Institute's/Center's home page: http://www.nhlbi.nih.gov/about/committees, where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS)

Dated: October 22, 2015.
Michelle Trout,
Program Analyst, Office of Federal Advisory Committee Policy.

[FR Doc. 2015-27326 Filed 10-26-15; 8:45 am]

BILLING CODE 4140-01-P